CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

CNCS is soliciting comments concerning its proposed assessment of Training and Technical Assistance (TTA) investments. At present, assessment of TTA consists of analysis of client satisfaction feedback with aggregations of post training-participant evaluations collected thru TTA Providers funded under cooperative agreements. TTA Providers are required to report post-training outputs and customer satisfaction data covered under OMB Control #3045-0105. Additional pre- and post-knowledge gain assessments instruments are proposed to collect evidence of any learning that actually occurred as a result of the training or return on investment for the training cost.

Copies of the information collection request can be obtained by contacting the office listed in the addresses section of this Notice.

DATES: Written comments must be submitted to the individual and office listed in the ADDRESSES section by March 18, 2013.

ADDRESSES: You may submit comments, identified by the title of the information collection activity, by any of the following methods:

(1) By mail sent to: Corporation for National and Community Service; Attention: Ralph Morales, Associate Director for Administration and Budget, Room 9703; 1201 New York Avenue NW., Washington, DC 20525.

(2) By hand delivery or by courier to the CNCS mailroom at Room 8100 at the mail address given in paragraph (1) above, between 9:00 a.m. and 4:00 p.m. Eastern Time, Monday through Friday, except Federal holidays.

(3) By fax to: (202) 606-3477, Attention: Ralph Morales, Associate Director for Budget and Administration.

(4) Electronically through http://www.regulations.gov or rmorales@cns.gov. Individuals who use a telecommunications device for the deaf (TTY-TTD) may call 1-800-833-3722 between 8 a.m. and 8 p.m. Eastern Time, Monday through Friday.

FOR FURTHER INFORMATION CONTACT: Ralph Morales, (202) 606-6829, or by email at rmorales@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

CNCS provides TTA to its grantees in topic areas related to program quality, compliance, and performance measurement through an online learning site as well as through face-to-face sessions conducted by consultants procured through contractors or cooperative agreements as well as CNCS staff. The effectiveness of this training and technical assistance is currently evaluated through analysis of client satisfaction feedback in aggregate form (see OMB Control #3045-0105).

Current Action

In addition to the data currently being collected, CNCS wishes to evaluate the knowledge gains of participants who partake in the training and technical assistance programs by administering pre- and post-test instruments to participants. CNCS will collect this information through specific online courses or face-to-face training designated as a part of the CNCS core curriculum. If the training is conducted through a grantee or contractor the contractor will collect on CNCS' behalf. However CNCS will aggregate data across TTA activities for internal analysis. If the CNCS should itself conduct training and/or technical assistance, the same pre- and post-test instruments would be used to gather knowledge gain data. The information collection will be used to further evaluate the effectiveness of the Corporation's training and technical assistance offerings to participants.

Type of Review: New.

Agency: Corporation for National and Community Service.

Title: Assessing the Impact of Training and Technical Assistance.

OMB Number: New.

Agency Number: None.

Affected Public: Current/prospective training and technical assistance providers.

Total Respondents: 10,000.

Frequency: Annually.

Average Time Per Response: Five minutes for the pre-test and 5 minutes for the post-test for a total of 10 minutes.

Estimated Total Burden Hours: 1666.67 hours.

Total Burden Cost (capital/startup): None.

Total Burden Cost (operating/maintenance): None.

Comments submitted in response to this notice will be summarized and/or included in the request for Office of Management and Budget approval of the information collection request; they will also become a matter of public record.

Dated: January 4, 2013.
Gretchen Van der Veer,
Director, Leadership Development and Training.

[FR Doc. 2013-00843 Filed 1-15-13; 8:45 am]

BILLING CODE 6050-$$-P